DEPARTMENT OF TRANSPORTATION

Federal Aviation Administration

Public Notice for Land Release; Skagit Regional Airport, Burlington, WA

AGENCY: Federal Aviation Administration (FAA), DOT.

ACTION: Notice.

SUMMARY: Notice is being given that the FAA is considering a proposal from the Port of Skagit County to release approximately 125 acres of airport land from Surplus Property restrictions. The property consists of 45 buildable acres and 76.5 acres of protected wetland/buffer as well as road and drainage improvements. Environmental analysis has been completed. Lots range from 1.7 acres to 8.8 acres in size. The property is located within the Bayview Ridge Subarea Plan. The release will allow the expansion of industrial facilities adjacent to the existing Paccar operation.

DATES: Comments are due within 30 days of the date of the publication of this notice in the Federal Register. Written comments can be provided to Ms. Cayla D. Morgan, Environmental Protection Specialist, Seattle Airports District Office, 1601 Lind Avenue SW., Suite 250, Renton, WA 98057-3356.

FOR FURTHER INFORMATION CONTACT: Ms. Heather Rogerson, Planning and Environmental Administrator, Port of Skagit, 15400 Airport Drive, Burlington, WA 98223; or Ms. Cayla D. Morgan, Environmental Protection Specialist, Seattle Airports District Office, 1601 Lind Avenue SW., Suite 250, Renton, WA, 98057-3356, (425) 227-2653. Documents reflecting this FAA action may be reviewed at the above locations.

SUPPLEMENTARY INFORMATION: Under the provisions of Title 49, U.S.C. 47151(d), and 47153(c), the FAA is considering a proposal from the Port of Skagit to release approximately 125 acres of airport land. The Port has invested significant funds for commercial subdivisions and installation of critical infrastructure in Divisions 5 and 7, but despite the ready-to-build condition and years of steady marketing the Port has not been able to attract a suitable private-sector development on a leased basis.

Paccar, Inc., a private sector corporation, has now presented the Port with an offer to purchase. The Port commission has declared a portion of Division 5 and all of Division 7 (“the property”) surplus to the needs of Port of Skagit and desires to sell the property to Paccar in order to generate new income to be used for the benefit of the Airport.

Issued in Renton, Washington, on September 27, 2017.
Jason Ritchie,
Assistant Manager, Seattle Airports District Office.

[FR Doc. 2017-21361 Filed 10-3-17; 8:45 am]

BILLING CODE 4910-13-P